ENVIRONMENTAL PROTECTION AGENCY

40 CFR Part 180

[EPA-HQ-OPP-2020-0053; FRL-10008-38]

Receipt of a Pesticide Petition Filed for Residues of Pesticide Chemicals in or on Various Commodities

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before June 8, 2020.

ADDRESSES: Submit your comments, identified by docket identification (ID) number by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), main telephone number: (703) 305-7090, email address: BPPDFRNotices@epa.gov; or Michael Goodis, Registration Division (RD) (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR [part 174 and/or part 180] for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Amended Tolerance Exemptions for Non-Inerts (Except PIPS)

PP 0F8822. (EPA-HQ-OPP-2020-0145). Spring Regulatory Sciences on behalf of FB Sciences, Inc., 153 N. Main St., Ste. 100, Collierville, TN 38017 requests to amend an exemption from the requirement of a tolerance in 40 CFR 180.1321 for residues of the plant growth regulator Complex Polymeric Polyhydroxy Acids (CPPA) in or on all food commodities when applied a to foliage, soil and as a seed treatment to include use as a nematicide when applied to foliage, soil, and as a seed treatment in accordance with good agricultural practices. The petitioner believes no analytical method is needed because CPPA is exempt from the requirement of a tolerance based upon the information provided in this petition. Contact: BPPD,

B. Amended Tolerances for Non-Inerts

PP 9E8803. (EPA-HQ-OPP-2019-0665). Interregional Research Project Number 4 (IR-4), Rutgers, The State University of New Jersey, 500 College Road East, Suite 201 W, Princeton, NJ 08540, proposes upon establishment of tolerances referenced in this document under “New Tolerances” for PP9E8803, to remove existing tolerances in 40 CFR 180.441 for residues of the herbicide quizalofop ethyl, including its metabolites and degradates. Compliance with the tolerance levels is to be determined by measuring only those quizalofop ethyl residues convertible to 2-methoxy-6-chloroquinoxaline, expressed as the stoichiometric equivalent of quizalofop ethyl in or on Cotton, undelinted seed at 0.1 parts per million (ppm); Sunflower, seed at 1.9 ppm. Contact: RD.

C. New Tolerance Exemptions for Inerts (Except PIPS)

1. PP IN-11370. (EPA-HQ-OPP-2020-0112). SciReg, Inc. (12733 Director's Loop, Woodbridge, VA 22192) on behalf of Valagro S.p.A. (Zona Industriale, Via Cagliari, 1, 66041 Atessa (CH), Italy) requests to establish an exemption from the requirement of a tolerance for residues of vitamin B1 (CAS Reg. No. 532-43-4) when used as an inert ingredient (enzymatic cofactor) in pesticide formulations applied to growing crops pre-harvest under 40 CFR 180.920, limited to 0.1% (by weight) in pesticide formulations. The petitioner believes no analytical method is needed because it is not required for an exemption from the requirement of a tolerance. Contact: RD.

2. PP IN-11371. (EPA-HQ-OPP-2020-0117). SciReg, Inc. (12733 Director's Loop, Woodbridge, VA 22192) on behalf of Valagro S.p.A. (Zona Industriale, Via Cagliari, 1, 66041 Atessa (CH), Italy) requests to establish an exemption from the requirement of a tolerance for residues of vitamin B5 (CAS Reg. No. 137-08-6) when used as an inert ingredient (enzymatic cofactor) in pesticide formulations applied to growing crops pre-harvest under 40 CFR 180.920, limited to 0.1% (by weight) in pesticide formulations. The petitioner believes no analytical method is needed because it is not required for an exemption from the requirement of a tolerance. Contact: RD.

D. New Tolerance Exemptions for Non-Inerts (Except PIPS)

PP 9F8742. (EPA-HQ-OPP-2019-0169). J.R. Simplot Company, PO Box 27, Boise, ID 83707, requests to establish an exemption from the requirement of a tolerance in 40 CFR part 180.1019 for residues of the desiccant sulfuric acid in or on Hop Vines. The petitioner believes no analytical method is needed because the agency is establishing an exemption from the requirement of a tolerance without numerical limitation. Contact: RD.

E. New Tolerances for Non-Inerts

1. PP 7F8634. (EPA-HQ-OPP-2018-0038). Valent U.S.A. LLC, 1600 Riviera Avenue, Suite 200, Walnut Creek, CA 94596, requests to establish tolerances in 40 CFR part 180 for residues of the fungicide inpyrfluxam, S-2399, in or on corn, sweet, stover at 0.02 ppm; corn, sweet, forage at 0.02 ppm; cattle, fat at 0.01 ppm; cattle, meat at 0.01 ppm; cattle, meat byproducts at 0.01 ppm; eggs at 0.01 ppm; goat, fat at 0.01 ppm; goat, meat at 0.01 ppm; goat, meat byproducts at 0.01 ppm; hog, fat at 0.01 ppm; hog, meat at 0.01 ppm; hog, meat byproducts at 0.01 ppm; horse, fat at 0.01 ppm; horse, meat at 0.01 ppm; horse, meat byproducts at 0.01 ppm; milk at 0.01 ppm; poultry, fat at 0.01 ppm; poultry, meat at 0.01 ppm; poultry, meat byproducts at 0.01 ppm; sheep, fat at 0.01 ppm; sheep, meat at 0.01 ppm; sheep, meat byproducts at 0.01 ppm. The HPLC-MS/MS method is used to measure and evaluate the chemical inpyrfluxam. Contact: RD.

2. PP 9E8800. (EPA-HQ-OPP-2019-0652). Interregional Research Project No. 4 (IR-4), Rutgers, The State University of NJ, 500 College Road East, Suite 201 W, Princeton, NJ 08540, requests to establish a tolerance in 40 CFR part 180.368 for residues of s-metolachlor, including its metabolites and degradates, S-metolachlor, S-2-chloro-N-(2-ethyl-6-methylphenyl)-N-(2-methoxy-1-methylethyl)acetamide, its R-enantiomer, and its metabolites, determined as the derivatives, 2-(2-ethyl-6-methylphenyl)amino-1-propanol and 4-(2-ethyl-6-methylphenyl)-2-hydroxy-5-methyl-3-morpholinone, calculated as the stoichiometric equivalent of S-metolachlor in or on dillweed at 5 ppm; dillweed, dried leaves at 9 ppm; dill, seed at 15 ppm; rosemary, dried leaves at 2 ppm; and rosemary, fresh leaves 1.5 ppm. A gas chromatography-nitrogen phosphorus detection (GC/NPD) method has been submitted to the Agency for determining residues in/on crop commodities and is published in PAM Vol. II, Method I. A gas chromatography-mass selective detection (GC/MSD) method has been submitted to the Agency for determining residues in livestock commodities and is published in PAM Vol. II, Method II is used to measure and evaluate the chemical. Contact: RD.

3. PP 9E8803. (EPA-HQ-OPP-2019-0665). IR-4, Rutgers, The State University of New Jersey, 500 College Road East, Suite 201 W, Princeton, NJ 08540, requests to establish a tolerance in 40 CFR part 180.441 for residues of the herbicide quizalofop ethyl, including its metabolites and degradates. Compliance with the tolerance levels is to be determined by measuring only those quizalofop ethyl residues convertible to 2-methoxy-6-chloroquinoxaline, expressed as the stoichiometric equivalent of quizalofop ethyl in or on carinata at 1.5 ppm; cottonseed subgroup 20C at 0.1 ppm; fruit, pome, group 11-10 at 0.1 ppm; fruit, small, vine climbing, except fuzzy kiwifruit, subgroup 13-07F at 0.1 ppm; fruit, stone, group 12-12 at 0.1 ppm; pennycress, meal at 2 ppm; pennycress, seed at 1.5 ppm; and sunflower subgroup 20B at 3 ppm. The high-pressure liquid chromatography using either ultraviolet or fluorescence detection is used to measure and evaluate the chemical. Contact: RD.

4. PP 9E8807. (EPA-HQ-OPP-2020-0067). IR-4, Rutgers, The State University of New Jersey, 500 College Road East, Suite 201 W, Princeton, NJ 08540, requests to establish a tolerance in 40 CFR part 180.675 for residues of the insecticide tolfenpyrad, (4-chloro-3-ethyl-1-methyl-N-[[4-(4-methylphenoxy)phenyl]methyl]-1H-pyrazole-5-carboxamide in or on artichoke, globe at 5 ppm. The acceptable high-performance liquid chromatography method with tandem mass spectrometry detection (LC/MS/MS) is used to measure and evaluate the chemical. Contact: RD.

Authority: 21 U.S.C. 346a.

Dated: April 13, 2020.
Delores Barber,
Director, Information Technology and Resources Management Division, Office of Pesticide Programs.

[FR Doc. 2020-09165 Filed 5-7-20; 8:45 am]

BILLING CODE 6560-50-P